DEPARTMENT OF TRANSPORTATION

Federal Aviation Administration

[Summary Notice No. PE-2022-31]

Petition for Exemption; Summary of Petition Received; ALOFT AeroArchitects

AGENCY: Federal Aviation Administration (FAA), Transportation (DOT).

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before July 19, 2022.

ADDRESSES: Send comments identified by docket number FAA-2022-0549 using any of the following methods:

• Federal eRulemaking Portal: Go to https://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to https://www.regulations.gov, as described in the system of records notice (DOT/ALL-14 FDMS), which can be reviewed at https://www.dot.gov/privacy.

Docket: Background documents or comments received may be read at https://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Michael H. Harrison, AIR-612, Federal Aviation Administration, 2200 S 216th St, Des Moines, WA 98198, phone and fax (206) 231-3368, email Michael.Harrison@faa.gov.

This notice is published pursuant to 14 CFR 11.85.

Issued in Washington, DC, on June 24, 2022.
Daniel J. Commins,
Manager, Technical Writing Section.

Petition for Exemption

Docket No.: FAA-2022-0549

Petitioner: ALOFT AeroArchitects

Section(s) of 14 CFR Affected: § 25, SFAR No. 109, 2.(b)(2)

Description of Relief Sought: ALOFT AeroArchitects (ALOFT) is seeking relief from 14 CFR 25, Special Federal Aviation Regulation (SFAR) No. 109, § 2.(b)(2) requirement that airplanes outfitted with interior doors have at least one flight attendant, if the airplane model was originally certified for 75 passengers or more. Specifically, ALOFT is proposing that compliance for flight attendant requirements be governed by 14 CFR 91.533, in lieu of 25 SFAR 109 § 2.(b)(2) on their Boeing Model 737-8 airplanes, as modified, with an executive interior, and operated for private, not-for-hire carriage.

[FR Doc. 2022-13932 Filed 6-28-22; 8:45 am]

BILLING CODE 4910-13-P